SECURITIES AND EXCHANGE COMMISSION

Sunshine Act Meeting

FEDERAL REGISTER CITATION OF PREVIOUS ANNOUNCEMENT: (To be published).

STATUS: Open meeting.

PLACE: 450 Fifth St., NW, Washington, DC.

DATE PREVIOUSLY ANNOUNCED: To be published.

CHANGE IN THE MEETING: Additional meeting.

An open meeting will be held on Thursday, May 4, 2000, at 10:00 a.m. in Room 1C30.

Commissioner Unger, as duty officer, determined that no earlier notice thereof was possible.

The subject matter of the open meeting scheduled for Thursday, May 4, 2000 at 10 a.m. will be: The Commission's Division of Market Regulation will conduct a roundtable on May 4, 2000, to discuss limit order transparency. Representatives of the following have been invited to participate: retail, institutional, and wholesale firms; the New York Stock Exchange, Nasdaq, and ECNs; mutual fund companies and pension plans; and market data vendors. For further information, please contact Rebekah Liu at (202) 942-0133.

At times, changes in Commission priorities require alterations in the scheduling of meeting items. For further information and to ascertain what, if any, matters have been added, deleted or postponed, please contact the Office of the Secretary at (202) 942-7070.

Dated: April 28, 2000.
Jonathan G. Katz,
Secretary.

[FR Doc. 00-11066 Filed 4-28-00; 4:13 pm]

BILLING CODE 8010-01-M